DEPARTMENT OF LABOR

Mine Safety and Health Administration

30 CFR Parts 71 and 75

RIN 1219-AA98 (Phase 9)

Standards for Sanitary Toilets in Coal Mines

AGENCY: Mine Safety and Health Administration (MSHA), Labor.

ACTION: Withdrawal of direct final rule.

SUMMARY: As a result of significant adverse comments, MSHA is withdrawing the direct final rule (68 FR 19347) on Standards for Sanitary Toilets in Coal Mines that was published on April 21, 2003. In that document, MSHA stated that if significant adverse comments were received, MSHA would withdraw the direct final rule, address the comments received on that rule, and publish a final rule based on the companion proposed rule also published on April 21. Accordingly, all public comments that have been received in this rulemaking are accepted under the proposed rule (68 FR 19477) and will be addressed in the final rule. MSHA will not institute a second comment period. Comments filed during this rulemaking can be viewed at MSHA's Internet site at http://www.msha.gov/currentcomments.htm.

DATES: As of June 20, 2003, this direct final rule (68 FR 19347), published on April 21, 2003, is withdrawn.

FOR FURTHER INFORMATION CONTACT: Marvin W. Nichols, Jr., Director; Office of Standards, Regulations, and Variances, MSHA; phone: (202) 693-9440; facsimile: (202) 693-9441; e-mail: Nichols-Marvin@msha.gov.

Dated: June 17, 2003.
John R. Caylor,
Deputy Assistant Secretary of Labor for Mine Safety and Health.

[FR Doc. 03-15694 Filed 6-19-03; 8:45 am]

BILLING CODE 4510-43-P